DEPARTMENT OF STATE

[Public Notice: 9177]

30-Day Notice of Proposed Information Collection: Department of State Acquisition Regulation (DOSAR)

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to July 30, 2015.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Ms. Ismaela Ramirez, Office of the Procurement Executive, 2201 C Street NW., Suite 1060, State Annex Number 15, Washington DC 20522-0602; who may be reached on (703) 516-1693 or at RamirezIM2@state.gov.

SUPPLEMENTARY INFORMATION:

• Title of Information Collection: Department of State Acquisition Regulation (DOSAR).

• OMB Control Number: 1405-0050.

• Type of Request: Revision of a Currently Approved Collection.

• Originating Office: Bureau of Administration, Office of the Procurement Executive (A/OPE).

• Form Number: No Form.

• Respondents: Any business, other for-profit, individual, not-for-profit, or household.

• Estimated Number of Respondents: 267.

• Estimated Number of Responses: 831.

• Average Time per Response: Approximately 4 hours (4.176).

• Total Estimated Burden Time: 3,470 hours.

• Frequency: On occasion.

• Obligation to Respond: Required.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: This information collection covers pre-award and post-award requirements of the DOSAR. During the pre-award phase, information is collected to determine which proposals offer the best value to the U.S. Government. Post-award actions include monitoring the contractor's performance; issuing modifications to the contract; dealing with unsatisfactory performance; and closing out the contract upon its completion. This program collects information pursuant to the Foreign Service Buildings Act of 1926, as amended (22 U.S.C. 302), the Omnibus Diplomatic Security and Antiterrorism Act (22 U.S.C. 4852), and the Foreign Relations Authorization Act, Fiscal Years 1990 and 1991 (22 U.S.C. 4864).

Methodology: Information is collected from prospective offerors to evaluate their proposals. The responses provided by the public are part of the offeror's proposals in response to Department solicitations. This information may be submitted electronically (through fax or email), or may require a paper submission, depending upon complexity. After contract award, contractors are required to submit information, on an as-needed basis, and related to the occurrence of specific circumstances.

Dated: June 23, 2015.
Corey M. Rindner,
Procurement Executive, Bureau of Administration, Department of State.

[FR Doc. 2015-16102 Filed 6-29-15; 8:45 am]

BILLING CODE 4710-05-P